DEPARTMENT OF HEALTH AND HUMAN SERVICES

National Institutes of Health

National Cancer Institute; Amended Notice of Meeting

Notice is hereby given of a change in the meeting of the National Cancer Institute Special Emphasis Panel, July 23, 2013, 10:00 a.m. to July 23, 2013, 04:00 p.m., National Cancer Institute Shady Grove, 9609 Medical Center Drive, Room 5W030, Rockville, MD, 20850 which was published in the Federal Register on May 23, 2013, 78FR30933.

The meeting notice is amended to change the start time and meeting room from 10:00 a.m. to 4:00 p.m., Room 5W030 to 9:00 a.m. to 4:00 p.m., Room 2W904 on July 23, 2013. The meeting is being held as a teleconference. The meeting is closed to the public.

Dated: June 20, 2013.
Melanie J. Gray,
Program Analyst, Office of Federal Advisory Committee Policy.

[FR Doc. 2013-15202 Filed 6-25-13; 8:45 am]

BILLING CODE 4140-01-P